DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. Evaluation of the BodyWise Eating Disorder Initiative—NEW—The Office on Women's Health plans to conduct an evaluation of the initial demonstration phase of the BodyWise Eating Disorder initiative to look for changes in school practices and awareness regarding eating disorder issues. The study design features a pre-test/post-test model with questionnaires to be completed by a sample of middle school staff. Burden Information for Pre-test—Number of Respondents: 426; Burden Per Response: 20 minutes; Burden for Pre-test: 142 hours—Burden Information for Post-test—Number of Respondents: 396; Burden Per Response: 20 minutes; Burden for Post-test: 132 hours—Total Burden: 274 hours.

OMB Desk Officer: Allison Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street, NW., Washington, DC 20503.

Comments may also be sent to Cynthia Agens Bauer, OS Reports Clearance Officer, Room 503H, Humphrey Building, 200 Independence Avenue SW., Washington, DC 20201. Written comments should be received on or before August 2, 2000.

Dated: June 15, 2000.
Dennis P. Williams,
Deputy Assistant Secretary, Budget.

[FR Doc. 00-16669 Filed 6-30-00; 8:45 am]

BILLING CODE 4150-04-M